DEPARTMENT OF COMMERCE

International Trade Administration

15 CFR Part 326

[Docket No. 240226-0059]

RIN 0625-AB24

The U.S. and Foreign Commercial Service Pilot Fellowship Program

AGENCY: International Trade Administration, Department of Commerce.

ACTION: Final rule.

SUMMARY: The Department of Commerce, International Trade Administration (ITA), Global Markets is issuing regulations implementing the U.S. and Foreign Commercial Service Pilot Fellowship Program to increase the level of knowledge and awareness of, and interest in employment with the United States and Foreign Commercial Service (US&FCS) among students, including students from underserved communities. This Program is intended to recruit graduate students interested in building a career with the U.S. Foreign Commercial Service. The Notice of Funding Opportunity (NOFO) on www.grants.gov shall provide more details regarding U.S. and Foreign Commercial Service Pilot Fellowship Program eligibility guidelines, application instructions, and program requirements.

DATES: This rule is effective on May 6.

FOR FURTHER INFORMATION CONTACT: Wendy Thompson at wendy.thompson@trade.gov or 202-754-4075.

SUPPLEMENTARY INFORMATION: The U.S. and Foreign Commercial Service Pilot Fellowship Program establishes a graduate student fellowship program to increase the level of knowledge and awareness of, and interest in employment with the U.S. & Foreign Commercial Service among students, including students from underserved communities. The Consolidated Appropriations Act, 2023, Public Law 117-328, Division B, Title I, under the appropriation for the International Trade Administration, authorizes funds “for the purpose of carrying out a pilot fellowship program of the United States Commercial Service under which the Secretary of Commerce may make competitive grants to appropriate institutions of higher education or students to increase the level of knowledge and awareness of, and interest in employment with, that Service among minority students.” The Act also states that, “any grants awarded under such program shall be made pursuant to regulations to be prescribed by the Secretary, which shall require as a condition of the initial receipt of grant funds, a commitment by prospective grantees to accept full-time employment in the Global Markets unit of the International Trade Administration upon the completion of participation in the program.”

In the Memorandum on Guidance on Promoting Internships and other Student and Early Career Programs in the Federal Government, dated January 19, 2023, the U.S. Office of Personnel Management (OPM) and the Office of Management and Budget (OMB) released guidance on increasing opportunities for internships, fellowships, apprenticeships, and other student and early career programs in the Federal Government, including paid internship programs. This guidance advances the goals of the “Strengthening and Empowering the Federal Workforce” priority in the President's Management Agenda (PMA) and was issued pursuant to Executive Order 14035, Diversity, Equity, Inclusion, and Accessibility in the Federal Workforce (the DEIA Executive Order).

The purpose of the U.S. and Foreign Commercial Service Pilot Fellowship Program is to educate and train graduate students in International Relations, Economics, Business, Trade or Public Policy, and International Studies to build a pool of candidates eligible for the future U.S. and Foreign Commercial Service workforce and ITA Pathways Program opportunities. ITA will conduct broad outreach to raise awareness of the Fellowship program, including to Minority Serving Institutions such as Historically Black Colleges and Universities, Hispanic Serving Institutions, Indian Tribally Controlled Colleges and Universities, Alaska Native-Serving Institutions, and Native Hawaiian-Serving Institutions to increase the level of knowledge and awareness of, and interest in employment with, the U.S. Foreign Commercial Service among students from underserved communities.

While in school, Fellows participate in one overseas enrichment program within the U.S. Department of Commerce and several mentoring sessions throughout the end of the student's current graduate education program. After completing their current academic graduate degree programs, and successfully passing the Foreign Service entry requirements, Fellows may choose to apply for employment with the U.S. Department of Commerce Foreign Service as Foreign Commercial Service Officers or candidates for the ITA Pathways Program. Consideration for the Fellowship is given to all qualified applicants who demonstrate outstanding leadership skills and academic achievement. The number of fellowships awarded is determined by available funding. ITA will publish a Notice of Funding Opportunity (NOFO) on www.grants.gov that will provide more details regarding U.S. and Foreign Commercial Service Pilot Fellowship Program eligibility guidelines, application instructions, and program requirements.

This final rule implements the base parameters of the U.S. and Foreign Commercial Service Pilot Fellowship Program. The regulations are consistent with the information provided in the NOFO. Section 326.1 provides a description of the program consistent with the above description in this preamble. Section 326.2 addresses administration, noting that the eligibility criteria and the amount of funding will be determined and announced annually and publicized nationwide. Section 326.2 also provides the core eligibility requirements, including U.S. citizenship and employment criteria and requirements for Fellows upon the successful completion of their graduate degree program. Section 326.3 provides that grants are awarded directly to students to be Fellows. Section 326.4 provides that the Office of Global Talent Management within the International Trade Administration administers this program for the Department.

Classification

Pursuant to 5 U.S.C. 553(a)(2), the provisions of the Administrative Procedure Act requiring notice of proposed rulemaking and the 30-day delay in effective date for substantive rules are inapplicable because this rule pertains to personnel and grants.

This rule has been determined to be not significant for purposes of Executive Order 12866.

This regulation is exempt from the notice and comment provisions of the APA. Therefore, the requirements of the Regulatory Flexibility Act (5 U.S.C. 601 et seq.) do not apply. Accordingly, no Regulatory Flexibility Analysis is required, and none has been prepared.

This rule does not have any collection of information requirements under the Paperwork Reduction Act.

List of Subjects in 15 CFR Part 326

Education, Educational study programs, Federal aid programs, Grant programs, Scholarships and fellowships, and Students.

For the reasons discussed in the preamble, the U.S. Department of Commerce, International Trade Administration amends 15 CFR chapter III by adding Part 326 to read as follows:

PART 326—U.S. AND FOREIGN COMMERCIAL SERVICE PILOT FELLOWSHIP PROGRAM

Sec.
326.1 What is the Fellowship Program?
326.2 How is the Fellowship Program administered?
326.3 Who can receive a grant?
326.4 Who administers the Program?

Authority: Consolidated Appropriations Act, 2023, Pub. L. 117-328, Division B, Title I.

§ 326.1 What is the Fellowship Program?

The U.S. and Foreign Commercial Service Pilot Fellowship Program targets graduate students interested in increasing the level of knowledge and awareness of and employment with the Foreign Service, consistent with 22 U.S.C. 3905. The Program develops a source of trained individuals, from academic disciplines representing the skill needs of the Department, who are dedicated to representing the United States' commercial interests abroad.

§ 326.2 How is the Fellowship Program administered?

(a) Eligibility. Eligibility criteria will be determined by the Department of Commerce and publicized nationwide. Fellows must be United States citizens.

(b) Provisions. The amount awarded to each individual student shall not exceed $35,000.00 for the total amount of time the student is in the Program. Continued eligibility for participation is contingent upon the Fellow's ability to meet the educational requirements set forth below.

(c) Program requirements. (1) Participation in the Program is conditional upon successful completion of pre-employment processing specified by the Department of Commerce, including background investigation, medical examination, and drug testing.

(2) As a condition of participation, fellows are required to complete prescribed coursework.

(3) As a condition of participation, foreign travel is required for all Fellows.

(4) Fellows are required to accept employment, if offered, with the Department of Commerce U.S. and Foreign Commercial Service upon successful completion of the Program and, if applicable, Foreign Service entry requirements.

(5) If offered employment, Fellows must commit to a two-year service agreement.

(6) Additional Program requirements may be determined annually by the Department of Commerce and publicized nationwide.

§ 326.3 Who can receive a grant?

(a) Grants to students. The Department of Commerce may award a competitive grant directly to a student for the purpose of increasing the level of knowledge and awareness of and interest in employment with the U.S. and Foreign Commercial Service, consistent with 22 U.S.C. 3905 and employment through ITA Pathways Programs consistent with the Executive Order No. 13562.

(b) Grants to Institutions of Higher Education. The Department of Commerce may award a competitive grant to an institution of higher education as defined in 20 U.S.C. 1001 to administer a program to award grants to students for the purpose of increasing the level of knowledge and awareness of and interest in employment with the U.S. and Foreign Commercial Service, consistent with 22 U.S.C. 3905.

§ 326.4 Who administers the Program?

The Department of Commerce, International Trade Administration, Global Markets, Office of Global Talent Management is responsible for administering the U.S. and Foreign Commercial Service Pilot Fellowship Program and grants to students and may be contacted for more detailed information.

Dated: April 29, 2024.
Diane Farrell,
Deputy Under Secretary, International Trade Administration (ITA), Department of Commerce.

[FR Doc. 2024-09863 Filed 5-6-24; 8:45 am]

BILLING CODE 3510-FP-P